ENVIRONMENTAL PROTECTION AGENCY

[FRL-9774-5]

Notice of Issuance of Prevention of Significant Deterioration Modification and Part 71 Operating Permit Renewal to NRG Backup Generation Services

AGENCY: Environmental Protection Agency (EPA).

ACTION: Notice.

SUMMARY: This notice announces that on November 26, 2012, EPA issued a Modification to a Prevention of Significant Deterioration (PSD) permit to NRG Backup Generation Services. NRG Backup Generation Services owns and operates four diesel-fired generators for Treasure Island Resort and Casino on land held in trust for the Prairie Island Indian Community in Red Wing, Minnesota. The modified PSD permit changes the required interval of nitrogen oxide performance testing for the four engines from every three years to every five years. In a separate action on November 26, 2012, EPA issued a title V permit to operate renewal to NRG Backup Generation Services pursuant to title V of the Clean Air Act. This permit authorizes NRG Backup Generation Services to operate the four diesel-fired generators for peak load management and backup power at the casino.

DATES: During the public comment period, which ended on October 19, 2012, EPA received a comment on the modified draft PSD permit and draft title V permit. Therefore, in accordance with 40 CFR 124.15(b) and 71.11(i)(2), both permits became effective on December 26, 2012.

ADDRESSES: The final signed permits are available for public inspection online at http://yosemite.epa.gov/r5/r5ard.nsf/Tribal+Permits!OpenView, or during normal business hours at the following address: U.S. Environmental Protection Agency, Region 5, Air and Radiation Division, 77 West Jackson Boulevard, Chicago, Illinois, 60604. We recommend that you telephone Michael Langman, Environmental Scientist, at (312) 886-6867 before visiting the Region 5 office.

FOR FURTHER INFORMATION CONTACT: Michael Langman, Environmental Scientist, Air Permits Section, Air Programs Branch, U.S. Environmental Protection Agency, Region 5, 77 West Jackson Boulevard, Chicago, Illinois, 60604, Telephone Number: (312) 886-6867, Email Address: langman.michael@epa.gov.

SUPPLEMENTARY INFORMATION: This section provides supplemental information by answering the following questions:

A. What is the background information?

B. What is the purpose of this notice?

A. What is the background information?

NRG Backup Generation Services, formerly Energy Alternatives, Inc., owns and operates four diesel-fired generators for Treasure Island Resort and Casino in Red Wing, Minnesota. All four generators are located on land held in trust for the Prairie Island Indian Community. The generators are used for peak load management and backup power at the casino.

On August 14, 2007, Energy Alternatives, Inc. submitted to EPA an application to change the nitrogen oxide performance testing interval from every three years to every five years. EPA approved this change based on previous performance testing results.

In October 2008, Energy Alternatives, Inc. submitted an application to renew its title V permit.

EPA first made available for public comment a draft Federal title V permit during a public comment period that ended on May 10, 2010. On May 10, 2010, EPA received a comment from Energy Alternatives, Inc. explaining that the requested change to the nitrogen oxide performance testing interval was not included in the title V permit. Since the testing interval was established in a PSD permit and since title V permits cannot change PSD requirements, a modification to the PSD permit was required.

On September 19, 2012, EPA made available for public comment a draft Federal PSD permit modification, Permit No. PSD-PI-2704900084-2012-02, which included the nitrogen oxide testing interval requested by Energy Alternatives. On the same day, EPA made available for public comment a draft Federal title V permit to operate, Permit No. V-PI-2704900084-2012-10. This title V permit incorporated all applicable air quality requirements for the four diesel-fired, emergency and peak load sharing generators Energy Alternatives owned and operated at Treasure Island Resort and Casino, including the monitoring necessary to ensure compliance with the requirements of the permit. In accordance with the requirements of 40 CFR 124.10(b)(1) and 71.11(d), EPA provided the public with 30 days to comment on both draft permits.

During the public comment period, EPA received one comment from NRG Backup Generation Services notifying EPA that ownership of the four diesel-fired engines changed from Energy Alternatives, Inc. to NRG Backup Generation Services. EPA finalized both permits and provided copies to the applicant pursuant to 40 CFR 124.15(b) and 71.11(i).

EPA is not aware of any outstanding enforcement actions against NRG Backup Generation Services and believes the issuance of these permits is non-controversial.

B. What is the purpose of this notice?

EPA is notifying the public of the issuance of the PSD permit modification and title V operating permit to NRG Backup Generation Services on November 26, 2012. Since EPA received a comment on the draft PSD permit modification and the draft title V permit, both permits became effective on December 26, 2012, pursuant to 40 CFR 124.15(b) and 71.11(i)(2).

Authority: 42 U.S.C. 7401 et seq.

Dated: January 17, 2013.
Susan Hedman,
Regional Administrator, Region 5.

[FR Doc. 2013-02106 Filed 1-30-13; 8:45 am]

BILLING CODE 6560-50-P